DEPARTMENT OF JUSTICE

Notice of Lodging of Proposed Consent Decree Under The Clean Water Act

Notice is hereby given that on January 31, 2011, a proposed Consent Decree was filed with the United States District Court for the District of Kansas in United States v. Orval Kent Food Company, Inc., No. 2:11-cv-02057-JAR-JPO (D. Kansas). The proposed Consent Decree entered into by the United States and the company resolves the United States' claims against the Orval Kent for civil penalties and injunctive relief pursuant to the Clean Water Act, 33 U.S.C. 1319. Under the terms of the Consent Decree, Orval Kent will pay the United States a civil penalty of $390,000, for excessive discharges of pollutants to the publicly-owned treatment works operated by the city of Baxter Springs, Kansas. In addition, Orval Kent will increase its monitoring of its discharges, and if necessary, install additional treatment. Further, Orval Kent will undertake a fish re-stocking project at a cost of $32,500.

The Department of Justice will receive comments relating to the proposed Consent Decree for an additional period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Orval Kent Food Company, DJ Ref. No. 90-5-1-1-09625.

The proposed Consent Decree may be examined at the Office of the United States Attorney for the District of Kansas, 500 State Ave. Suite 360. Kansas City, KS 66101 (913) 551-6730, and at the Environmental Protection Agency, Region 7, 901 N. 5th Street Kansas City, KS 66101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.50 (25 cents per page reproduction cost) payable to the U.S. Treasury.

Maureen Katz,
Assistant Section Chief, Environmental Enforcement Section, Environment and Natural Resources Division.

[FR Doc. 2011-2427 Filed 2-3-11; 8:45 am]

BILLING CODE 4410-15-P